DEPARTMENT OF ENERGY

Federal Energy Regulatory Commission

[Docket No. ER98-3760-009, et al.]

California Independent System Operator Corporation, et al.; Electric Rate and Corporate Filings

August 29, 2003.

The following filings have been made with the Commission. The filings are listed in ascending order within each docket classification.

1. California Independent System, Operator Corporation, Pacific Gas and Electric Company, San Diego Gas & Electric Company, and Southern California Edison Company

[Docket Nos. ER98-3760-009, EC96-19-060 and ER96-1663-063]

Take notice that on August 25, 2003, the California Independent System Operator Corporation (ISO), submitted a filing in compliance with the Commission's July 25, 2003 Order in Docket No. ER98-3760-008, et al., 104 FERC ¶ 61,129.

The ISO states that this filing has been served upon all parties in the captioned proceeding, and has been posted on the ISO Home Page.

Comment Date: September 15, 2003.

2. Ameren Services Company

[Docket Nos. ER02-2233-010 and EC03-14-005]

Take notice that on August 28, 2003, the GridAmerica Participants and the Midwest Independent Transmission System Operator, Inc. (jointly, the Applicants) filed two Acknowledgements in order to make it possible for GridAmerica to commence operations, if necessary, on a phased basis.

The Applicants state that in addition to serving the filing in accordance with the Commission's Regulations, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: September 8, 2003.

3. Power Contract Financing II, L.L.C.

[Docket No. ER03-1108-001]

Take notice that on August 26, 2003, Power Contract Financing II, L.L.C. (PCF II), filed an amendment to it application filed July 23, 2003. PCF II states that the amendment corrects a typographical error in the original filing.

Comment Date: September 16, 2003.

4. Power Contract Financing II, Inc.

[Docket No. ER03-1109-001]

Take notice that on August 26, 2003, Power Contract Financing II, Inc. (PCF II, Inc.) filed an amendment to its application filed on July 23, 2003. PCF II, Inc. states that the amendment corrects a typographical error in the original filing.

Comment Date: September 16, 2003.

5. Rail Energy of Montana

[Docket No. ER03-1224-000]

Take notice that on August 18, 2003, Rail Energy of Montana, LLC, tendered for filing a Notice of Cancellation of its Market-based Rate Authority in Docket No. ER01-1557-000. Rail Energy of Montana, LLC is requesting an effective date of June 30, 2001.

Comment Date: September 12, 2003.

6. Wisconsin Electric Power Company

[Docket No. ER03-1240-001]

Take notice that on August 26, 2003, Wisconsin Electric Power Company (Wisconsin Electric) tendered for filing a correction to its filing of August 22, 2003 in Docket No. ER03-1240-000 submitting a revised Power Service Agreement between Wisconsin Electric and the City of Crystal Falls, Michigan. Wisconsin Electric states that this filing is to correct two errors in the transmittal letter filed on August 22, 2003. Wisconsin Electric further states that the remainder of the information contained in the August 22 filing is correct.

Comment Date: September 16, 2003.

7. Northeast Utilities Service Company

[Docket No. ER03-1247-000]

Take notice that on August 26, 2003, Northeast Utilities Service Company (NUSCO) filed on behalf of its affiliates, The Connecticut Light and Power Company, Western Massachusetts Electric Company, Holyoke Power and Electric Company, Holyoke Water Power Company and Public Service Company of New Hampshire (collectively, the NU Companies) and North Atlantic Energy Corporation, Open Access Transmission Tariff, FERC Electric Tariff No. 10 (Tariff No. 10). NUSCO states that Tariff No. 10 reflects revised transmission service rates for open access transmission service over the NU Operating Companies' transmission facilities and is intended to supersede the existing Open Access Transmission Tariff, FERC Electric Tariff No. 9.

NUSCO requests an effective date of October 27, 2003 for Tariff No. 10. NUSCO states that copies of this filing have been served on all of the NU Operating Companies' transmission customers and to the Connecticut, Massachusetts and New Hampshire state public utility commissions.

Comment Date: September 16, 2003.

8. Puget Sound Energy, Inc.

[Docket No. ER03-1248-000]

Take notice that on August 26, 2003, Puget Sound Energy, Inc. (Puget) submitted for filing the 2003-04 Operating Procedures with respect to the 1997 Pacific Northwest Coordination Agreement ( the 1997 PNCA). Puget states that the 2003-04 Operating Procedures amend the 1997 PNCA.

Puget further states that copies of the filing were served on the parties to the 1997 PNCA.

Comment Date: September 16, 2003.

9. Ameren Services Company

[Docket No. ER03-1249-000]

Take notice that on August 26, 2003, Ameren Services Company (ASC) tendered for filing a Service Agreement for Network Integration Transmission Service and a Network Operating Agreement between ASC and Constellation NewEnergy Corporation (Customer). ASC asserts that the purpose of the Agreement is to permit ASC to provide transmission service to the Customer pursuant to Ameren's Open Access Transmission Tariff.

Comment Date: September 16, 2003.

10. Maine Public Service Company

[Docket No. ER03-1250-000]

Take notice that on August 25, 2003, Maine Public Service Company (MPS) submitted for filing an executed Interconnection Agreement Between MPS and PDI New England, Inc. (now known as WPS New England Generation, Inc.). MPS requests an effective date of June 8, 1999, the date on which the agreement was executed.

Comment Date: September 15, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-22870 Filed 9-8-03; 8:45 am]

BILLING CODE 6717-01-P